DEPARTMENT OF STATE

22 CFR Parts 121 and 126

[Public Notice: 12744]

RIN 1400-AF42

International Traffic in Arms Regulations: U.S. Munitions List Targeted Revisions

AGENCY: Department of State.

ACTION: Final rule; interim final rule adopted with changes.

SUMMARY: The Department of State (the Department) amends the International Traffic in Arms Regulations (ITAR) to remove from the U.S. Munitions List (USML) items that no longer warrant inclusion, add to the USML items that warrant inclusion, and clarify certain entries. With these amendments, the Department also updates the interim final rule it published on January 17, 2025. In addition, the Department is adding a new license exemption for certain activities related to unmanned underwater vehicles described in the exemption.

DATES: As of August 27, 2025, amendatory instruction number three in the interim final rule published at 90 FR 5594 on January 17, 2025, is withdrawn.

Effective date: This rule is effective September 15, 2025.

FOR FURTHER INFORMATION CONTACT: Mr. Chris Weil, Office of Defense Trade Controls Policy, Department of State, email DDTCCustomerService@state.gov; SUBJECT: ITAR Amendment—RIN 1400-AF42.

SUPPLEMENTARY INFORMATION: The Department of State's Directorate of Defense Trade Controls (DDTC) administers the ITAR (22 CFR parts 120 through 130) to, among other things, regulate the export, reexport, retransfer, and temporary import of defense articles and defense services described on the USML at ITAR § 121.1. Items not subject to the ITAR or to the exclusive licensing jurisdiction of any other department or agency of the U.S. Government are subject to the Export Administration Regulations (EAR; 15 CFR parts 730 through 774), which include the Commerce Control List (CCL) in Supplement No. 1 to part 774. The EAR is administered by the Bureau of Industry and Security (BIS), U.S. Department of Commerce. This rule does not modify the list of defense articles and defense services controlled for purposes of permanent import by the Attorney General, as enumerated on the U.S. Munitions Import List (USMIL) at 27 CFR 447.21.

Section 38 of the Arms Export Control Act (AECA; 22 U.S.C. 2778), the authority from which the ITAR is derived, requires periodic review to determine what articles and services, if any, no longer warrant designation on the USML at ITAR § 121.1. In maintaining the USML, DDTC's Office of Defense Trade Controls Policy (DTCP) identifies articles and services for review for addition to or removal from the USML, or for clarification on how they are described on the USML, through a variety of methods, including public feedback and interagency consultations, commodity jurisdiction reviews, advisory opinions, and technology monitoring. The Department maintains the USML such that it comprises those defense articles or defense services that provide a critical military or intelligence advantage or, in the case of weapons, have an inherently military function. The Department, informed by consultations with its interagency partners, determined that the additional items this rule designates on the USML warrant ITAR control and those articles it removes from the USML no longer do. This rule also amends certain language that describes items on the USML to provide additional clarity to the regulatory text. Although it is not seeking public comment in this final rule, the Department nonetheless welcomes submissions from members of the public identifying specific descriptions of items that, in their view, the Department should consider revising, removing, or adding to the USML in future rulemaking. As members of the public are often uniquely positioned to provide information that can assist the Department in its review of the USML, including technology developments, commercial use of defense technology, and industry interpretation and application of particular terminology, the Department accepts the submission of such views to help inform its monitoring of the technology frontier via DDTCPublicComments@state.gov.

On January 17, 2025, the Department published an interim final rule (the IFR) in the Federal Register at 90 FR 5594 amending the ITAR to remove from the USML items that no longer warrant inclusion, add to the USML items that warrant inclusion, and clarify certain entries. That rule included a request for comments on the revisions therein and was scheduled to go into effect on September 15, 2025. Having reviewed and considered the comments submitted in response to the IFR, and having separately considered other changes to the USML based on its ongoing assessments and periodic review of the USML, the Department is publishing this final rule, which revises the ITAR and the IFR.

In summary, in response to feedback the Department received from the IFR, and based on other assessments and the discretion afforded it, the Department is making some alterations to the changes implemented therein and making certain additional changes to the ITAR with explanations provided in the section of this preamble titled “Responses to Comments Received.” Those changes include removing lead-free birdshot, Global Navigation Satellite Systems (GNSS) anti-spoofing and GNSS anti-jam systems, and certain anti-jam antennas from the USML. They also include adding a new exemption for some of the underwater vessels the IFR added to USML Category XX(a)(10) that, although they provide a critical military or intelligence advantage such that they warrant description on the USML, the Department assesses are also highly suitable for scientific research and specific commercial operations.

Regulatory Implementation

The Department is, with this final rule, superseding and replacing the amendments to § 121.1 that were scheduled to be made on September 15, 2025 by the IFR. For administrative purposes and to conform to procedures of the Office of the Federal Register (OFR), the desired replacements made by this rule are procedurally accomplished by withdrawing the IFR's amendatory instructions for § 121.1 (i.e., the IFR's amendatory instruction number three) in the preceding “Date” section heading of this rule, and having the amendatory instructions for § 121.1 made by this rule (i.e., this final rule's amendatory instruction number three) take effect on the same date, September 15, 2025. Because the changes to the list of definitions in the updated § 121.0 are implemented by providing new regulatory language in amendatory instruction number two, in both the IFR and this final rule, and both sets of regulatory language are scheduled to take effect on the same effective date, the corresponding revisions made by this final rule will take effect on September 15, 2025. More specifically, OFR will implement both revision instructions on the effective date in the order in which they were originally published in the Federal Register. Thus, the amendatory instructions in this final rule reflect all relevant amendatory instructions from both this final rule and the IFR that will be implemented on the September 15, 2025 effective date. In summary, all of this is done so that the reader does not have to combine two separate sets of sequential amendments and instead can more easily view the changes made in one place and in one rule.

Responses to Comments Received

22 CFR 121.0

In response to the IFR, one commenter raised concerns that having an Active Electronically Scanned Array (AESA) radar is insufficient to distinguish an advanced aircraft from other less sensitive military aircraft within the definition of “foreign advanced military aircraft” in § 121.0. The Department notes both the IFR and this final rule specify that having an AESA fire control radar is an advanced military capability meeting the definition's criteria. Aircraft that only have AESA radar not associated with a fire control system do not meet the AESA fire control radar criterion in this definition. Additionally, in response to informal feedback, the Department is amending the definition's criteria to clarify that “integrated” applies to both “electronic warfare (EW) systems” and “signature management” systems. Integrated signature management is included in the overall design of the aircraft, while integrated EW systems do not include federated (i.e., standalone) EW systems. The Department is also reformatting the foreign advanced military aircraft definition for clarity and ease of use and adding the definite article “the” to certain definitions for clarity.

USML Category II

A portion of the IFR's amendatory instruction that this rule withdraws was included in the IFR to correct a typographical error in Note 2 to paragraph (d) of Category II. As that error has since been corrected through separate administrative action, State is not reissuing that portion of the amendatory instruction in this rule.

USML Category III

Separate from the IFR, the Department is taking this opportunity to revise paragraph (d)(6) of USML Category III to exclude common lead-free birdshot ammunition, even if it is made from tungsten or steel and thus has a core produced from tungsten or steel. The Department does so consistent with its assessment that such projectiles do not provide a critical military or intelligence advantage and do not have an inherently military function. The Department of Commerce's Export Administration Regulations classify such ammunition as EAR99. Consistent with the Department's assertion of the military or foreign affairs function exception to the notice-and-comment requirements of the Administrative Procedure Act (see the “Regulatory Analyses” section of this preamble), the Department did not publish a rule proposing this change but still welcomes relevant views at DDTCPublicComments@state.gov.

USML Category IV

One commenter observed that the Department's addition of a separate paragraph (c)(2) in USML Category IV implies improvised explosive devices (IEDs) are not described in paragraph (a) or (b). As the commenter notes, IEDs may be produced from articles described on the USML or articles not described on the USML. Consequently, some IEDs contain defense articles and some do not. The Department affirms that IEDs are not described on the USML solely because they are IEDs. Defense articles used as IED components remain defense articles subject to ITAR § 120.11(c).

The same commenter suggested the Department add IEDs to paragraph (a)(9), which currently describes mines. The Department declines to enumerate IEDs here, or elsewhere on the USML, for the same reasons they are not described in paragraph (a)(6), which describes bombs. Although some efforts to regulate the export of common IED precursor materials to high-risk areas have been temporarily implemented by other agencies in the past, by definition, IEDs are improvised from available materials and the manufacture, production, and use of IEDs is regulated via other legal authorities, including title 18 of the U.S. Code (see, e.g., 18 U.S.C. 842, 2332, and 2339). The same commenter suggested that paragraph ML4.a. of the 2024 Wassenaar Arrangement Munitions List (WAML) explicitly controls “explosive devices,” including IEDs. However, the Department notes the explosive devices described in that paragraph are any of the following that are “specially designed for military use”: “Bombs, torpedoes, grenades, smoke canisters, rockets, mines, missiles, depth charges, demolition-charges, demolition-devices, demolition-kits, ‘pyrotechnic’ devices, cartridges, submunitions therefor and simulators.”

Additionally, the commenter recommended the Department not describe IED and mine disposal and protection equipment on the USML. To this end, the commenter recommended adding a note to paragraph (c) to state that remotely operated vehicles (ROVs) and disruptors specially designed or modified for the disposal of IEDs, and specially designed components and accessories therefor, are subject to the EAR under Export Control Classification Number (ECCN) 1A006 on the CCL. The Department affirms that some ROVs and disruptors for IEDs are not described in the new paragraph (c)(1) or (2) created by the IFR. For example, an IED disruptor that disables IEDs by use of a water lance (i.e., a high-velocity water stream that can rapidly disrupt or damage the target electronics) is not specially designed for the handling, control, activation, monitoring, detection, protection, discharge, or detonation of IEDs. As these items are not currently described in paragraph (c), the Department declines to add language removing them.

USML Category V

The Department is updating paragraph (c)(2) of USML Category V to add a second Chemical Abstract Service (CAS) Registry Number for pentaborane, consistent with those provided on the WAML. The Department notes CAS numbers indicated on the USML may not cover all substances and mixtures described in the associated USML entries. As explained in Note 2 to Category V, CAS numbers are only provided as examples.

USML Category VIII

One commenter stated the inclusion of the AESA fire control radar criterion in the definition of foreign advanced military aircraft will result in the “inadvertent inclusion of thousands of minor parts and components” in USML Category VIII(h)(1) that the commenter believes should remain on the CCL. The Department assesses the scenario described is a misinterpretation of the changes to paragraph (h)(1), as that paragraph does not include a catch-all control for parts used exclusively in foreign advanced military aircraft. Instead, by adding paragraph (h)(1)(iii), the Department is reinforcing the existing catch-all control for aircraft described in paragraphs (h)(1)(i) and (ii). This supports U.S. industry participation in foreign advanced military aircraft programs by ensuring the reuse of current paragraph (h)(1) parts does not release those parts from the USML, which helps enable more favorable licensing adjudications for such repurposing of existing U.S. parts.

In alignment with the President's announcement, on March 22, 2025, that the U.S. Air Force's Next Generation Air Dominance Platform has been designated as the F-47, the Department is adding the F-47 to the list of aircraft in paragraph (h)(1)(i) of USML Category VIII. While the F-47 is currently enumerated in paragraphs (a)(2) and (f) of USML Category VIII, the catch-all control for its specially designed parts, components, accessories, and attachments is currently in paragraph (f), based on the aircraft's developmental status. Adding the F-47 to the list of aircraft in (h)(1)(i) ensures those items remain described on the USML after the F-47 enters production. The F-47 will be the most advanced, lethal, and adaptable fighter aircraft ever developed, and the Department assesses the specially designed items this change adds to paragraph (h)(1) will continue to provide a critical military or intelligence advantage after the F-47 enters production.

Additionally, the Department is clarifying that, while it considered removing articles specially designed for parts, components, accessories, and attachments used exclusively in U.S. Government technology demonstrators from paragraph (h)(29) in the IFR, it elects not to do so at this time. The Department is also removing an extraneous use of the word “this” from paragraph (h)(29).

Furthermore, consistent with the regulatory text presented in the IFR, the Department notes it expanded paragraph (h)(29) in the IFR to also describe articles specially designed for foreign advanced military aircraft described in paragraph (a)(1), (2), or (3) or developmental aircraft described in paragraph (f). This expansion does not extend to articles specially designed only for parts, components, accessories, and attachments not described in paragraph (h)(1). For example, a scale test model of a complete foreign advanced military aircraft described in paragraph (a)(2) is described in paragraph (h)(29)(i); however, a scale test model of a component of that aircraft is not described in paragraph (h)(29)(i). Similarly, a full-scale iron bird rig specially designed for a foreign advanced military aircraft described in paragraph (a)(2) is described in paragraph (h)(29)(ii); however, a part used exclusively in a foreign advanced military aircraft is not described in paragraph (h)(1), and a jig specially designed for that part is not described in paragraph (h)(29)(iii).

USML Category XI

Separate from the IFR, the Department assesses the broad description of counter-jamming equipment in USML Category XI(a)(4)(iii) may impede the Department's intent to improve civil navigation resiliency when it removed certain Controlled Reception Pattern Antennas (CRPAs) from paragraph (c)(10) in the IFR. To address this, the Department is modifying paragraph (a)(4)(iii) to exclude Global Navigation Satellite System (GNSS) anti-jam and GNSS anti-spoofing systems from that entry. Meanwhile, USML Category XII(d)(3) already describes certain GNSS anti-jam systems that continue to provide a critical military or intelligence advantage. To improve the clarity of paragraph (a)(4)(iii), the Department is also restructuring it by splitting its two clauses into subparagraphs (A) and (B), moving the parenthetical list of examples into a note, and adding a hyphen to “counter-jamming.”

One commenter additionally noted that, unlike paragraphs (c)(10)(i) and (ii) in the IFR, paragraph (c)(10)(iv) does not exclude CRPAs that may be used for civil navigation resiliency by identifying the angle of arrival of a valid or spoofed GNSS signal. The Department agrees and is thus excluding specific CRPAs from this entry and adding a new entry, paragraph (c)(10)(vii), to continue to describe CRPAs specially designed for functions other than Position, Navigation, and Timing (PNT) that meet the technical parameters of the former paragraph (c)(10)(iv). Additionally, the Department is relocating the content of the note to paragraph (c)(10) into the introductory text of that paragraph and is updating it to reference the appropriate versions of FAA Traffic Collision Avoidance System (TCAS) and Airborne Collision Avoidance System (ACAS) regulations, as the previous references are outdated. In response to a separate query, the Department further notes that paragraph (c)(10)(iv) was not intended to describe antennas developed exclusively for civil airborne weather radar. Views on specific examples of why certain antennas developed for this purpose may currently be described therein are requested via email to DDTCPublicComments@state.gov and may be used to inform future rulemakings.

Another commenter recommended removing USML Category IX(a)(9) because radar target generators are also described in USML Category XI(a)(3)(xxviii). The Department declines to do so, since USML Category XI(a)(3)(xxviii) describes a subset of radar target generators that are designated as Significant Military Equipment (SME). That SME classification takes precedence in the order of review over the non-SME description in USML Category IX(a)(9) of other radar target generators.

USML Category XIII

The Department is correcting an inadvertent omission of ρRHA in USML Category XIII(m)(9) as published in the IFR, deleting an unnecessary comma in the definition of ρRHA, restoring the unit designations for Po, Pr, and ADTARGET, and adding a unit designation for ADRHA. Although the IFR included amendatory instructions modifying paragraph (d), upon further examination, the Department finds it unnecessary to amend that paragraph or its associated notes at this time and is withdrawing the amendatory instructions in the IFR for Category XIII(d) via this rule, by not including them in this final rule's amendatory instructions.

The Department is updating paragraph (j)(3)(iv) for consistent language, with no change in the scope of control.

USML Category XVIII

The Department is correcting an administrative oversight in the USML where, despite being empty, paragraphs (h) through (w) were not marked reserved.

USML Category XX

To improve its clarity and readability, the Department is amending Note 1 to USML Category XX(a)(8) to remove the reference to parts, components, accessories, attachments, and associated equipment, noting that paragraph (a)(8) does not currently describe any of those commodity types. Existing USML Category XX(c) describes those commodity types when specially designed for vessels described in paragraph (a)(8).

One commenter stated new paragraphs (a)(9) and (10) describe vessels in commercial use, including those used in surveys of subsea floors for applications such as drilling, laying subsea cables, and marine wind farm installations. The commenter did not identify the specific vessels of concern and therefore the Department was unable to confirm whether any vessels used for such applications include anti-recovery features such as scuttle or self-destruct capabilities, which the Department assesses provide a critical military or intelligence advantage by mitigating the risk of counter-surveillance and exploitation of the vessels and serves no compelling commercial purpose. The Department also assessed that most of the underwater vessels referenced by the commenter are designed to be remotely operated and thus do not meet the threshold in paragraph (a)(10) concerning operation without human interaction for longer than 24 hours or more than 70 nautical miles. The commenter also stated usage of these vessels for commercial applications will also be regulated by the Department of Commerce's Bureau of Industry and Security (BIS). The Department notes this is incorrect, as items described on the USML are not subject to BIS's Export Administration Regulations unless specifically provided for in the ITAR (e.g., see the note to paragraph (d) in USML Category XIX).

Three other commenters identified vessels, including some models of Kongsberg Discovery's HUGIN UUVs, that would be described on the USML under the new paragraph (a)(10) and are used in civil applications such as oceanographic research or the oil and gas industry. The Department has reviewed these vessels and concluded that though some of them are or may be used for civil purposes, those described by paragraph (a)(10) nevertheless provide a critical military or intelligence advantage and thus it declines to remove or update paragraph (a)(10). The weight-based control concisely and accurately describes the UUVs that provide a critical military or intelligence advantage. The size threshold of 3,000 pounds is based on an estimated technology development trajectory and represents the minimum size for a UUV that would enable significant weaponization. This considers both integrated weapons as payloads (e.g., torpedoes) and non-integrated weapons as cargo (e.g., naval mines). The Department's intent is to control large UUVs usable for oceanographic research or commercial purposes that could be easily used, post-sale, as an effective weapon, or as a weapons delivery or Intelligence, Surveillance, and Reconnaissance (ISR) platform. The 24-hour threshold for operation without human interaction represents the typical perishability of information used to task unmanned systems for military or intelligence purposes, and it has the effect of excluding many civilian remotely operated vehicles. Systems capable of operating without human interaction for 24 hours must possess the capability of assessing changes in environment, mission context, and self-health and adapting to such changes. The alternative threshold of 70 nautical miles represents the distance a vessel could travel in 24 hours at an average speed of approximately three knots.

For conciseness and clarity, the Department is also making several revisions to the changes to USML Category XX(a) that the IFR made, that are set to take effect on September 15, 2025. First, the Department is removing the parentheticals “(and vehicles)” from paragraphs (a)(9) and (10) as unnecessary. References to underwater “vessels” in Category XX include underwater “vehicles.” Second, the Department is deleting note 1 to paragraph (a)(10) and relocating the definition of “gross weight rating” into the list of definitions in § 121.0. Third, the Department is revising paragraph (b)(2) for greater clarity, with no change to the scope of control.

New License Exemption for Certain Large Unmanned Underwater Vehicles (UUVs)

In the IFR, the Department included weight and performance criteria in the new USML Category XX(a)(10) paragraph to avoid control of systems it assessed are best suited for scientific research or commercial applications. In response to the IFR, one commenter proposed the Department ensure its regulation of large UUVs only captures conduct related to military operations. The Department considered this request, along with the technological and economic landscape for these vessels and their availability in assessing ways to facilitate U.S. participation and collaboration for civilian tasks such as natural resource exploration, infrastructure inspection, and oceanographic research while continuing to mitigate the risks of their misuse, diversion, and proliferation.

Following research based on this comment, the Department identified there are U.S. companies that provide services using such vessels, as opposed to selling the vessels. DDTC already reviews license applications for contractor-owned contractor-operated (COCO) services for Intelligence, Surveillance, and Reconnaissance (ISR) and airborne mineral surveys using defense articles and would also review COCO licenses for large defense article UUVs.

Further, in response to feedback from this commenter and the commenters described in the section on USML Category XX, and the Department's subsequent assessments, the Department is creating a new license exemption for a subset of the UUVs described in USML Category XX(a)(10) that, although they provide a critical military or intelligence advantage such that they warrant description on the USML, the Department assesses they are also highly suitable for scientific research and specific commercial operations.

This new exemption will authorize the temporary export, reexport, and temporary import of UUVs described in USML Category XX(a)(10) that meet the exemption's size restriction of 8,000 pounds, as well as the provision of defense services in the maintenance, repair, operation, or use of those exempted UUVs, when the controlled activities involve one of the exemption's described civil uses. It will also authorize a similar scope of brokering activities. However, this exemption will not be available if the activities entail the transfer of the vessel's registration, control, or ownership to a foreign person.

While the Department is implementing that license exemption in a new § 126.9(u) in this final rule, it still welcomes relevant views on this new exemption, including recommended improvements. Comments are requested via email to DDTCPublicComments@state.gov, and may be used to inform future rulemakings.

Effective Date and Updating of Licenses and Agreements

The Department is implementing an effective date for this rule of September 15, 2025, the same implementation date announced in the IFR, in making the revisions described in this final rule. One commenter requested the Department accelerate the effective date of the rule to March 20, 2025. The Department declines to advance or postpone the effective date of the rule, having assessed the current effective date provides necessary and sufficient time for the regulated community to make necessary preparation to implement these changes.

Timeline for Applications, Amendments, and Grandfathering

Items Transitioning Jurisdiction From the ITAR to the EAR

Items removed from a USML paragraph by this rule may still be described in other USML paragraphs or may become subject to the export licensing jurisdiction of the Department of Commerce pursuant to the EAR. Before determining license requirements, it is important to confirm which U.S. Government department or agency has jurisdiction over the items that you are planning to transfer, or broker. In determining licensing jurisdiction, exporters should evaluate the control status of their item using the order of review found at ITAR § 120.11 and may submit a commodity jurisdiction request to DDTC for assistance, if the licensing jurisdiction or USML classification is in doubt. If it is determined that the item is subject to the EAR, exporters should evaluate the CCL classification of their item using the order of review in supplement no. 4 to part 774 of the EAR and may submit a commodity classification request (CCATS) to BIS for assistance, if the CCL classification is in doubt. Neither the BIS classification nor the CCATS number may be relied upon or cited as evidence that the U.S. Government determined that the items described in the commodity classification determination are subject to the EAR (See 15 CFR 734.3). Licensing requirements under the EAR are determined by the reasons for control applicable to the item, the destination, the end use, and the end user. General Order No. 5 in supplement no. 1 to part 736 of the EAR describes the transition process for items moving from the USML to the CCL upon the publication of the pertinent final rules. The general order describes the grandfathering of DDTC licenses and agreements, the use of BIS authorizations, and the submission of disclosures to BIS and DDTC related to the transition of items from the USML to the CCL.

For those wishing to export under the authority of the EAR as soon as possible for items moving from the USML to the CCL, applicants may submit license applications immediately after the publication of the BIS final rule adding such items to the CCL or, in the case of items removed from the USML by this final rule, immediately upon its publication. Thus, applicants may, in effect, pre-position license applications early to facilitate processing of the license application. Such a pre-positioned license application will be processed in accordance with § 750.4 of the EAR, but if BIS completes processing the application prior to the effective date of the applicable final rule removing the item from the USML, BIS will hold the application without action (HWA), until the effective date of that final rule. Applications for transitioned items received after the effective date of the final rule removing them from the USML will be processed as described in § 750.4 of the EAR.

Existing holders of DDTC licenses, agreements, or other approvals, may maintain existing authorizations or obtain new authorizations for items moving from the USML to the CCL.

Acceptance of Licenses

During the transition period, license applications will be accepted by both DDTC and BIS for items moving from the USML to the CCL. BIS will not issue approved licenses for such items until on or after the effective date of this rule.

DSP-5 Licenses: Licenses for items transitioning to the CCL that are issued prior to the effective date of the final rule and do not include items remaining on the USML will remain valid until expired, returned by the license holder, or for a period of three years from the effective date of the final rule, whichever occurs first, unless otherwise revoked, suspended, or terminated. Licenses containing both transitioning and non-transitioning items (mixed authorizations) will remain valid until expired or returned by the license holder, unless otherwise revoked, suspended, or terminated. Any limitation, proviso, or other requirement required by the DDTC authorization remains in effect if the DDTC authorization is relied upon for export, re-export, or re-transfer. License amendment requests received by DDTC prior to the effective date of the rule will be adjudicated on a case-by-case basis up until the effective date of the rule.

DSP-61 and DSP-73 Licenses: All temporary licenses that are issued in the period prior to the effective date of the rule will remain valid until expired or returned by the license holder, unless otherwise revoked, suspended, or terminated. Any limitation, proviso, or other requirement imposed on the DDTC authorization will remain in effect if the DDTC authorization is relied upon for export. License amendment requests received by DDTC before the effective date of the rule will be adjudicated on a case-by-case basis until the effective date of the rule. All license applications, including amendments, received after the effective date for items that are transitioning to the CCL that are not identified in the application using an (x) paragraph will be Returned Without Action (RWA) with instructions to contact the Department of Commerce.

Technical Assistance Agreements, Manufacturing License Agreements, Distribution Agreements, and Related Reporting Requirements: Agreements and amendments containing both USML and CCL items will be adjudicated up to the effective date of the final rule. Agreements containing transitioning and non-transitioning items that are issued prior to the effective date of the final rule will remain valid until expired, unless they require an amendment, or for a period of three years from the effective date of the final rule, whichever occurs first, unless otherwise revoked, suspended, or terminated. In order for an agreement to remain valid beyond three years, an amendment must be submitted to authorize the CCL items using the new (x) paragraph from the relevant USML category. Any activity conducted under an agreement will remain subject to all limitations, provisos, and other requirements stipulated in the agreement.

Agreements containing solely transitioning items issued prior to the effective date of the final rule will remain valid for a period of three years from the effective date of the rule, unless revoked, suspended, or terminated. After the three-year period ends, any ongoing activity must be conducted under the appropriate Department of Commerce authorization. Agreements and agreement amendments solely for items moving to the CCL which are received after the effective date of the rule will be Returned Without Action (RWA) with instructions to contact the Department of Commerce.

All reporting requirements for Manufacturing License Agreements and Distribution Agreements must be complied with and such reports must be submitted to the Department of State while the agreement is relied upon as an export authorization by the exporter.

Reexport/Retransfer of USML Items That Have Transitioned to the CCL

Foreign persons or U.S. persons abroad that have USML items in their inventory at the effective date of transition should review both the USML and the CCL to determine the proper export jurisdiction of those items. If the item is controlled by the Department of Commerce, any reexport or retransfer must comply with the requirements of the EAR. If doubt exists on the jurisdiction of the items, the foreign person should contact the original exporter or manufacturer. In instances when those parties are unavailable, the foreign person should review the DDTC or BIS website for guidance and support options.

Following the effective date of this rule, foreign persons (including end-users, consignees, and intermediate consignees) who receive, via a Department of State authorization, an item they are certain has transitioned to the CCL (e.g., confirmed in writing by manufacturer or supplier), should treat the item as such and submit requests for post-transition reexports or retransfers to the Department of Commerce, as may be required by the EAR. If reexport or retransfer was previously authorized under an MLA or WDA that continues to provide the export authority or any stand-alone reexport/retransfer authorization received pursuant to ITAR § 123.9, such authorizations remain valid.

Items Transitioning to the USML

For those wishing to export under the authority of the ITAR as soon as possible for items moving onto the USML, applicants may submit license applications as soon as this rule is published in the Federal Register.

Submission of Voluntary Disclosures or Voluntary Self-Disclosures

In reviewing the clarifications provided by this rule, if you identify a potential violation of the ITAR, you are encouraged to submit a voluntary disclosure to DDTC, consistent with the procedures outlined in ITAR § 127.12. For potential violations of the EAR, persons are encouraged to submit voluntary self-disclosures to BIS, consistent with the procedures outlined in EAR §§ 764.4 and 764.5. For potential violations of both the EAR and the ITAR, persons are encouraged to submit disclosures to both agencies.

Regulatory Analysis and Notices

Administrative Procedure Act

This rulemaking is exempt from the rulemaking requirements of section 553 of the Administrative Procedure Act (APA) pursuant to section 553(a)(1) as a military or foreign affairs function of the United States. Although the Department elected to publish an interim final rule prior (IFR) to this final rule, it did so without prejudice to its determination that controlling the export, reexport, retransfer, and temporary import of defense articles and defense services is a military or foreign affairs function. Additionally, relying on the same APA provision and where noted, the Department is including some changes in this final rule that were not presented in the IFR.

Regulatory Flexibility Act

Since this rule is exempt from the notice-and-comment rulemaking provisions of 5 U.S.C. 553, it does not require analysis under the Regulatory Flexibility Act.

Unfunded Mandates Reform Act of 1995

This rulemaking does not involve a mandate that will result in the expenditure by state, local, and tribal governments, in the aggregate, or by the private sector of $100 million or more in any year and it will not significantly or uniquely affect small governments. Therefore, no actions are deemed necessary under the provisions of the Unfunded Mandates Reform Act of 1995.

Congressional Review Act

This rule does not meet the criteria of 5 U.S.C. 804(2).

Executive Orders 12372 and 13132

This rulemaking does not have sufficient federalism implications to require consultations or warrant the preparation of a federalism summary impact statement. The regulations implementing Executive Order 12372 regarding intergovernmental consultation on Federal programs and activities do not apply to this rulemaking.

Executive Orders 12866 and 13563

Executive Order 12866, as amended by Executive Order 13563, directs agencies to assess all costs and benefits of available regulatory alternatives and, if regulation is necessary, to select regulatory approaches that maximize net benefits (including potential economic, environmental, public health and safety effects, distributed impacts, and equity). Executive Order 13563 emphasizes the importance of quantifying both costs and benefits, of reducing costs, of harmonizing rules, and of promoting flexibility. After review by the Office of Management and Budget (OMB), this rule has been deemed to be a “significant regulatory action.”

This rule was undertaken pursuant to a statutory directive to periodically review the items on the USML. The Department generally determines which items warrant addition to, or removal from, the USML by assessing whether each provides a critical military or intelligence advantage based on national security and foreign policy considerations. Because the costs and benefits of changing what is controlled focus on the effect or utility of the item or service, rather than its market prevalence or economic value, quantitative analyses cannot be usefully estimated and are not available, particularly since the global prevalence or availability of the item or service are not known. Moreover, the Department does not have useful estimates or models to predict whether or how frequently the items added to the USML by this rule will be applied for export or to which countries, or for temporary import and from which countries. Qualitatively, the rule was assessed for costs and benefits. Because listing individual items or model numbers would necessarily lead to incomplete controls when an item is renamed or slightly modified, the USML contains many descriptive controls that are based on broader characteristics, including form, fit, function, and performance capability. To more accurately describe only what the Department intends to control, and to provide companies and individuals with better certainty, some USML revisions made by this rule are aimed to improve and clarify various entries and to more precisely focus controls. These revisions are also informed by confidential commodity jurisdiction determination and advisory opinion requests, submitted by industry. The Department takes into account common questions and strives to streamline and simplify USML entries based on how it understands industry experience with certain parts of the USML.

Finally, when a complete redundancy is identified, as USML Category IX(e)(2) was in the IFR, the Department is removing it so that exporters, brokers, and temporary importers may better rely on a single entry, which can help to reduce compliance costs and increase the accuracy of relevant metrics. The alternative to this was inaction or delay. The Department could have waited to amend larger parts of the USML at once or continued to gather data to evaluate the controls affected by this rule. These alternatives were rejected. Statutory requirements, including section 38(f) of the Arms Export Control Act (22 U.S.C. 2778(f)), and section 1345 of the National Defense Authorization Act for Fiscal Year 2024, require a periodic review of the USML for edits like those made by this rule. While the Department continuously reviews the entire USML, it aims to focus on particular USML revisions in cycles, as it has done in implementing this rule.

Executive Order 14192

This rule is exempt from Executive Order 14192 as it is a regulation issued with respect to a foreign affairs or national security function of the United States.

Executive Order 12988

The Department of State has reviewed this rulemaking in light of sections 3(a) and 3(b)(2) of Executive Order 12988 to eliminate ambiguity, minimize litigation, establish clear legal standards, and reduce burden.

Executive Order 13175

The Department of State has determined that this rulemaking will not have tribal implications, will not impose substantial direct compliance costs on Indian tribal governments, and will not preempt tribal law. Accordingly, the requirements of Executive Order 13175 do not apply to this rulemaking.

Paperwork Reduction Act

This rulemaking does not impose or revise any information collections subject to 44 U.S.C. chapter 35.

Signing Authority

Deputy Secretary Christopher Landau, having reviewed and approved this document, has delegated the authority to electronically sign this document for purposes of publication in the Federal Register to Senior Official Brent T. Christensen, who is performing the duties of the Under Secretary for Arms Control and International Security.

List of Subjects

22 CFR Part 121

Arms and munitions, Classified information, Exports.

22 CFR Part 126

Arms and munitions, Exports, Reporting and recordkeeping requirements, Technical assistance.

For reasons stated in the preamble, the Department of State adopts the interim rule amending 22 CFR part 121, the United States Munitions List, which was published at 90 FR 5594 on January 17, 2025, as final with changes, and amends part 126 as follows:

PART 121—THE UNITED STATES MUNITIONS LIST

1. The authority citation for part 121 continues to read as follows:

Authority: 22 U.S.C. 2752, 2778, 2797; 22 U.S.C. 2651a; Sec. 1514, Pub. L. 105-261, 112 Stat. 2175; E.O. 13637, 78 FR 16129, 3 CFR, 2013 Comp., p. 223.

2. Revise and republish § 121.0 to read as follows:

§ 121.0 United States Munitions List description and definitions.

For a description of the U.S. Munitions List and its designations, including the use of asterisks and the parenthetical “(MT)”, see § 120.10 of this subchapter. Within this part, the following definitions apply:

CCL. See Commerce Control List.

Commerce Control List means the Commerce Control List in 15 CFR part 774, supplement no. 1.

Department of Defense means the U.S. Department of Defense.

DoD. See Department of Defense.

EAR means the Export Administration Regulations in 15 CFR parts 730 through 774.

ECCN means Export Control Classification Number, the alphanumeric designation used on the CCL. See definition at 15 CFR part 772.

Foreign advanced military aircraft means an aircraft that is all of the following:

(1) Non-U.S.-origin, including foreign derivatives of U.S.-origin aircraft;

(2) In development, or entering production, after 2023; and

(3) Has one or more of the following advanced military capabilities:

(i) An Active Electronically Scanned Array (AESA) fire control radar;

(ii) Integrated signature management;

(iii) Integrated electronic warfare systems; or

(iv) The ability to engage targets beyond visual range (BVR).

Gross weight rating means the maximum operating weight, or displacement, of the conveyance, including the fully configured weight of all fuel, fluids (excluding wet ballast open to the operating environment), payloads, other deployables or expendables (e.g., countermeasures, other autonomous commodities, and torpedoes), and cargo.

3. Amend § 121.1 as follows:

a. In Category III, revise paragraph (d)(6);

b. In Category IV, revise paragraph (c) and Note 1 to paragraph (c);

c. In Category V, revise paragraphs (c)(2), (e)(10), (f)(4)(x), (f)(19), and (g)(4);

d. In Category VII, revise Note 3 to Category VII;

e. In Category VIII:

i. Revise paragraphs (h)(1) and (29);

ii. Add Note 1 to paragraph (h); and

iii. Remove the Note at the end of the category.

f. In Category IX:

i. Revise paragraph (e)(1); and

ii. Remove and reserve paragraph (e)(2);

g. In Category X:

i. Revise paragraph (a)(1), Note 1 to paragraph (a)(1), and (a)(6);

ii. Add paragraph (b);

iii. Revise paragraph (d)(1); and

iv. Redesignate the Note to paragraphs (a) and (d) as Note 1 to paragraphs (a) and (d) and revise newly redesignated Note 1 to paragraphs (a) and (d).

h. In Category XI:

i. Revise paragraphs (a)(4)(iii) and (c)(10) and

ii. Remove the Note to paragraph (c)(10).

i. In Category XII, revise paragraph (d)(2)(ii).

j. In Category XIII, revise paragraphs (b)(4), (e)(1), (2), (5), and (6), (j), and (m)(9) and (10).

k. In Category XIV:

i. Revise paragraph (a)(1)(ii);

ii. Add paragraphs (a)(1)(iv) through (viii);

iii. Revise paragraph (f)(7); and

iv. Add paragraph (j).

l. In Category XVIII, reserve paragraphs (h) through (w).

m. In Category XIX, revise paragraphs (d) and (f)(1) and (2).

n. In Category XX:

i. Revise paragraphs (a)(7) and (8);

ii. Add paragraphs (a)(9) and (10); and

iii. Revise paragraph (b)(2).

o. In Category XXI, revise paragraph (a) and add Note 1 to Category XXI.

The revisions and additions read as follows:

§ 121.1 The United States Munitions List.

* * * * *

Category III—Ammunition and Ordnance

* * * * *

(d) * * *

(6) Projectiles that employ tips (e.g., M855A1 Enhanced Performance Round (EPR)) or cores regardless of caliber, produced from one or a combination of the following: tungsten, steel, or beryllium copper alloy, excluding steel or tungsten shotgun pellets with diameters less than or equal to 0.230 in;

* * * * *

Category IV—Launch Vehicles, Guided Missiles, Ballistic Missiles, Rockets, Torpedoes, Bombs, and Mines

* * * * *

(c) Equipment specially designed for the handling, control, activation, monitoring, detection, protection, discharge, or detonation of any of the following:

(1) A commodity enumerated in paragraphs (a) or (b) of this category (MT for those systems enumerated in paragraph (a)(1) or (2) or (b)(1) of this category); or

(2) Improvised Explosive Devices (IEDs).

Note 1 to paragraph (c): This paragraph (c) includes specialized handling equipment (e.g., transporters, cranes, and lifts) specially designed to handle articles enumerated in paragraphs (a) and (b) of this category for preparation and launch from fixed and mobile sites. The equipment in this paragraph (c) also includes specially designed robots, robot controllers, and robot end-effectors, and liquid propellant tanks specially designed for the storage or handling of the propellants controlled in USML Category V, CCL ECCNs 1C011, 1C111, and 1C608, or other liquid propellants used in the systems enumerated in paragraph (a)(1), (2), or (5) of this category.

* * * * *

Category V—Explosives and Energetic Materials, Propellants, Incendiary Agents, and Their Constituents

* * * * *

(c) * * *

(2) Carboranes; decaborane (CAS 17702-41-9); pentaborane (CAS 19624-22-7 and CAS 18433-84-6); and derivatives thereof (MT);

* * * * *

*(e) * * *

(10) Poly-NIMMO (poly nitratomethylmethyoxetane, poly-NMMO, (poly[3-nitratomethyl-3-methyl oxetane])) (CAS 84051-81-0);

* * * * *

(f) * * *

(4) * * *

(x) Diethylferrocene (CAS 1273-97-8);

* * * * *

(19) TEPANOL (HX-878) (tetraethylenepentaamineacrylonitrileglycidol) (CAS 68412-46-4); cyanoethylated polyamines adducted with glycidol and their salts (MT for TEPANOL (HX-878));

* * * * *

(g) * * *

(4) CL-20 precursors (any molecule containing hexaazaisowurtzitane) (e.g., HBIW (hexabenzylhexaazaisowurtzitane), TAIW (tetraacetyldibenzylhexaazaisowurtzitane));

* * * * *

Category VII—Ground Vehicles

* * * * *

Note 3 to Category VII: Ground vehicles include any vehicle meeting the control parameters, regardless of: the surface upon which the vehicle is designed to operate (e.g., highway, off-road, amphibious, or rail); the manner of control of the vehicle (e.g., manual, remote, or autonomous); or the mode of locomotion of the vehicle (e.g., wheeled, tracked, or multi-pedal).

* * * * *

Category VIII—Aircraft and Related Articles

* * * * *

(h) * * *

(1) Parts, components, accessories, and attachments specially designed for aircraft listed within paragraphs (h)(1)(i) through (ii) of this category, excluding those common to aircraft that are or were in production and are not listed within paragraphs (h)(1)(i) through (iv) of this category, as follows:

(i) B-1, B-2, B-21, F-15SE (Silent Eagle), F/A-18E/F, EA-18G, F-22, F-35, F-47, F-117, MQ-25, RQ-170, or future variants thereof;

(ii) U.S. Government technology demonstrators;

(iii) Foreign advanced military aircraft described in paragraph (a)(1), (2), or (3) of USML Category VIII; or

(iv) Aircraft included in a USML Category XXI(a) determination;

Note 1 to paragraph (h)(1): The following is an example of the scope of this paragraph (h)(1) for an article common to multiple aircraft: A part common to the F-16 (not listed within paragraphs (h)(1)(i) through (iv) of this category) and F-35 (listed) is not described in this paragraph (h)(1), while a part common only to the F-22 and F-35 (both listed) is described in this paragraph (h)(1), subject to a specially designed analysis as set forth in § 120.41 of this subchapter.

Note 2 to paragraph (h)(1): The following is an example of the scope of this paragraph (h)(1) for articles used in U.S. Government (USG) technology demonstrators: A part used only in a USG technology demonstrator, where the USG technology demonstrator is otherwise subject to the EAR, is not described in this paragraph (h)(1) (see § 120.41(b)(4)), while a part common only to the EA-18G (listed in paragraph (h)(1)(i) of this category) and a USG technology demonstrator is described in this paragraph (h)(1), subject to the analysis set forth in § 120.41 of this subchapter.

* * * * *

(29) Any of the following equipment if specially designed for defense articles described in paragraph (h)(1) of this category, aircraft listed in paragraph (h)(1)(i), (ii), or (iii) of this category, or developmental aircraft described in paragraph (f) of this category:

(i) Scale test models;

(ii) Full-scale iron bird ground rigs used to test major aircraft systems; or

(iii) Jigs, locating fixtures, templates, gauges, molds, dies, or caul plates.

Note 1 to paragraph (h): Parts, components, accessories, and attachments in paragraphs (h)(3) through (5) or paragraph (h)(7), (14), (17), or (19) of this category are licensed by the Department of Commerce when incorporated in an aircraft subject to the EAR and classified under ECCN 9A610. Replacement parts, components, accessories, and attachments remain subject to the ITAR.

* * * * *

Category IX—Military Training Equipment and Training

* * * * *

(e) * * *

(1) Directly related to the defense articles enumerated in paragraphs (a) and (b) of this category; or

* * * * *

Category X—Personal Protective Equipment

(a) * * *

(1) Body armor providing a protection level equal to or greater than NIJ RF3;

Note 1 to paragraph (a)(1): For body armor providing a level of protection of NIJ HG1, NIJ HG2, NIJ RF1, or NIJ RF2, see ECCNs 1A005 and 1A613.

* * * * *

(6) Helmets and helmet shells providing a protection level equal to or greater than NIJ RF3;

* * * * *

(b) Developmental exoskeletons funded by the U.S. Department of Defense via contract, or other funding authorization, dated after January 20, 2026; and specially designed parts, components, accessories, and attachments therefor; excluding those that are:

(1) Enumerated elsewhere on the USML;

(2) In production;

(3) Documented as subject to the EAR via a commodity jurisdiction determination (see § 120.4 of this subchapter); or

(4) Identified in the relevant DoD contract or other funding authorization as being developed for both civil and military applications.

* * * * *

(d) * * *

(1) Ceramic or composite plates that provide protection equal to or greater than NIJ RF3;

* * * * *

Note 1 to paragraphs (a) and (d): See National Institute of Justice Classification, NIJ Standard 0123.00, or national equivalents, for a description of level of protection for armor.

* * * * *

Category XI—Military Electronics

(a) * * *

(4) * * *

(iii) Systems and equipment, excluding GNSS anti-jam and GNSS anti-spoofing systems, either:

(A) Specially designed to introduce extraneous or erroneous signals into radar, infrared based seekers, electro-optic based seekers, radio communication receivers, or navigation receivers; or

(B) That otherwise hinder the reception, operation, or effectiveness of adversary electronics;

Note 1 to paragraph (a)(4)(iii): Examples include active or passive electronic attack, electronic countermeasure, electronic counter-countermeasure equipment, jamming, and counter-jamming equipment.

* * * * *

(c) * * *

(10) Antennas, excluding Traffic Collision Avoidance Systems (TCAS) or Airborne Collision Avoidance System (ACAS) antennas conforming to FAA TCAS or ACAS Technical Standard Orders (e.g., TSO C-119 or TSO-C219), as follows; and specially designed parts and components therefor:

(i) Antennas, other than Controlled Reception Pattern Antennas (CRPAs), that employ four or more elements, electronically steer angular beams, independently steer angular nulls, create angular nulls with a null depth greater than 20 dB, and achieve a beam switching speed faster than 1 millisecond;

(ii) Antennas, other than CRPAs, that form adaptive null attenuation greater than 35 dB with convergence time less than 1 millisecond;

(iii) Antennas that detect signals across multiple RF bands with matched left hand and right hand spiral antenna elements for determination of signal polarization;

(iv) Antennas, other than CRPAs, that determine signal angle of arrival with an accuracy better than (less than) two degrees (e.g., interferometer antenna);

(v) CRPAs specially designed for functions other than Position, Navigation, and Timing (PNT), that employ four or more elements, electronically steer angular beams, independently steer angular nulls, create angular nulls with a null depth greater than 20 dB, and achieve a beam switching speed faster than 1 millisecond;

(vi) CRPAs specially designed for functions other than PNT, that form adaptive null attenuation greater than 35 dB with convergence time less than 1 millisecond; or

(vii) CRPAs specially designed for functions other than PNT, that determine signal angle of arrival with an accuracy better than (less than) two degrees;

* * * * *

Category XII—Fire Control, Laser, Imaging, and Guidance Equipment

* * * * *

(d) * * *

(2) * * *

(ii) Global Positioning System (GPS) receiving equipment specially designed for encryption or decryption (e.g., Y-Code, M-Code) of GPS protected positioning service (PPS) signals (MT if designed or modified for airborne applications);

* * * * *

Category XIII—Materials and Miscellaneous Articles

* * * * *

(b) * * *

(4) Military or intelligence systems, equipment, assemblies, modules, integrated circuits, components, or software (including all previous or derived versions) authorized to control access to or transfer data between different security domains as listed on the National Cross Domain Strategy and Management Office (NCDSMO) Control List (UCL); or

* * * * *

(e) * * *

(1) Spaced armor with Em greater than 1.4 and meeting NIJ RF1 or better;

(2) Transparent armor with areal density less than or equal to 40 pounds per square foot (≤40 lb/ft²), having either:

(i) Em greater than or equal to 1.3 (Em ≥1.3); or

(ii) Em less than 1.3 (Em <1.3) and meeting or exceeding NIJ RF1 standards;

* * * * *

(5) Composite armor with Em greater than 1.4 and meeting or exceeding NIJ RF1;

(6) Metal laminate armor with Em greater than 1.4 and meeting or exceeding NIJ RF1; or

* * * * *

(j) Equipment, materials, coatings, treatments, and fluids not elsewhere specified in this section, as follows:

(1) Specially treated or formulated dyes, coatings, and fabrics used in the design, manufacture, or production of personnel protective clothing, equipment, or face paints designed to protect against or reduce detection by radar, infrared, or other sensors at wavelengths greater than 900 nanometers (see USML Category X(a)(2));

* (2) Equipment, materials, coatings, and treatments that are specially designed to modify the electro-optical, radiofrequency, infrared, electric, laser, magnetic, electromagnetic, acoustic, electro-static, or wake signatures of defense articles or 600 series items subject to the EAR through control of absorption, reflection, or emission to reduce detectability or observability (MT for applications usable for rockets, SLVs, missiles, drones, or UAVs capable of achieving a range greater than or equal to 300 km, and their subsystems. See note to paragraph (d) of this category); or

(3) Fluids, including greases, specially designed for any of the following:

(i) Aircraft listed in USML Category VIII(h)(1)(i), (ii), or (iii);

(ii) Coatings described in USML Category XIV(f)(7);

(iii) Engines listed in USML Category XIX(f)(1)(i) or (ii); or

(iv) Articles described in USML Category XVIII (Directed Energy Weapons) or XX (Submersible Vessels and Related Articles).

* * * * *

(m) * * *

(9) Em is the line-of-sight target mass effectiveness ratio and provides a measure of the tested armor's performance to that of rolled homogenous armor, where Em is defined as follows:

Where:

ρRHA = density of MIL-A-12560 RHA (7.85 g/cm³)

Po = Baseline Penetration of RHA (mm)

Pr = Residual Line of Sight Penetration, either positive or negative (mm RHA equivalent)

ADRHA = Line-of-Sight Areal Density of RHA (kg/m²)

ADTARGET = Line-of-Sight Areal Density of Target (kg/m²)

If witness plate is penetrated, Pr is the distance from the projectile to the front edge of the witness plate. If the target armor has no measurable penetration, Pr = 0, and the Em equation reduces to a ratio of ADRHA/ADTARGET.

(10) NIJ is the National Institute of Justice and RF1 refers to the requirements specified in NIJ standard 0123.00, Specification for NIJ Ballistic Protection Levels and Associated Test Threats.

* * * * *

Category XIV—Toxicological Agents, Including Chemical Agents, Biological Agents, and Associated Equipment

* (a)* * *

(1)* * *

(ii) O-Alkyl (equal to or less than C10, including cycloalkyl) N,N-dialkyl (Methyl, Ethyl, n-Propyl or Isopropyl) phosphoramidocyanidates, such as: Tabun (GA): O-Ethyl N, N-dimethylphosphoramidocyanidate (CAS 77-81-6) (CWC Schedule 1A);

* * * * *

(iv) Р-alkyl (H or equal to or less than C10, including cycloalkyl) N-(1-(dialkyl (equal to or less than C10, including cycloalkyl) amino)) alkylidene (H or equal to or less than C10, including cycloalkyl) phosphonamidic fluorides and corresponding alkylated or protonated salts; e.g., N-(1-(di-n-decylamino)-n-decylidene)-P-decylphosphonamidic fluoride (CAS 2387495-99-8) and Methyl-(1-(diethylamino) ethylidene) phosphonamidofluoridate (CAS 2387496-12-8) (CWC Schedule 1A);

(v) O-alkyl (H or equal to or less than C10, including cycloalkyl) N-(1-(dialkyl (equal to or less than C10, including cycloalkyl) amino)) alkylidene (H or equal to or less than C10, including cycloalkyl) phosphoramidofluoridates and corresponding alkylated or protonated salts; e.g., O-n-Decyl N-(1-(di-n-decylamino)-n-decylidene) phosphoramidofluoridate (CAS 2387496-00-4), Methyl (1-(diethylamino) ethylidene) phosphoramidofluoridate (CAS 2387496-04-8), and Ethyl (1-(diethylamino) ethylidene) phosphoramidofluoridate (CAS 2387496-06-0) (CWC Schedule 1A);

(vi) Methyl-(bis (diethylamino) methylene) phosphonamidofluoridate (CAS 2387496-14-0) (CWC Schedule 1A);

(vii) Quaternaries of dimethylcarbamoyloxypyridines: 1-[N,N-dialkyl (equal to or less than C10)-N-(n-(hydroxyl, cyano, acetoxy) alkyl (equal to or less than C10)) ammonio]-n-[N-(3-dimethylcarbamoxy-α-picolinyl)-N,N-dialkyl (equal to or less than C10) ammonio] decane dibromide (n=1-8); e.g., 1-[N,N-dimethyl-N-(2-hydroxy) ethylammonio]-10-[N-(3-dimethylcarbamoxy-α-picolinyl)-N,N-dimethylammonio] decane dibromide (CAS 77104-62-2) (CWC Schedule 1A); or

(viii) Bisquaternaries of dimethylcarbamoyloxypyridines: 1,n-Bis[N-(3-dimethylcarbamoxy-α-picolyl)-N,N-dialkyl (equal to or less than C10) ammonio]-alkane-(2,(n-1)-dione) dibromide (n=2-12); e.g., 1,10-Bis[N-(3-dimethylcarbamoxy-α-picolyl)-N-ethyl-N-methylammonio] decane-2,9-dione dibromide (CAS 77104-00-8) (CWC Schedule 1A);

* * * * *

* (f) * * *

(7) Chemical Agent Resistant Coatings (CARC), prior to the application and curing thereof, that have been qualified to military specifications (MIL-PRF-32348, MIL-DTL-64159, MIL-C-46168, or MIL-DTL-53039); or

* * * * *

(j) Constituent elements of defoliants, as follows: 2,4,5-Trichlorophenoxyacetic acid (CAS 93-76-5).

* * * * *

Category XIX—Gas Turbine Engines and Associated Equipment

* * * * *

* (d) The following engines:

(1) AGT1500, CTS800, GE38, GE3000, HPW3000, MT7, T55, T408, or T700; or Note 1 to paragraph (d)(1): Engines subject to the control of this paragraph (d)(1) are licensed by the Department of Commerce when incorporated in an aircraft subject to the EAR and controlled under ECCN 9A610. Such engines are subject to the controls of the ITAR in all other circumstances.

(2) XT900.

* * * * *

(f) * * *

(1) Parts, components, accessories, and attachments specially designed for the engines listed within paragraph (f)(1)(i) or (ii) of this category, excluding those common to engines that are or were in production that are not listed within paragraphs (f)(1)(i) through (iii) of this category, as follows:

(i) F101, F107, F112, F118, F119, F120, F135, F136, F414, F415, J402, T901, XA100, XA101, XA102, and XA103; and military variants thereof;

(ii) Engines described in paragraph (d)(2) of this category; or

(iii) Engines included in a USML Category XXI(a) determination.

Note 1 to paragraph (f)(1): For example, a part common to the F110 (not listed within paragraphs (f)(1)(i) through (iii) of this category) and F136 (listed) engines is not described in this paragraph (f)(1), while a part common only to the F119 and F135 (both listed) is described in this paragraph, subject to a specially designed analysis using § 120.41 of this subchapter.

* (2) Hot section parts and components (i.e., combustion chambers and liners, and related cooled structures; high pressure turbine blades, vanes, disks, and related cooled structures; cooled intermediate pressure turbine blades, vanes, disks, and related cooled structures; cooled low pressure turbine blades, vanes, disks, and related cooled structures; cooled shaft-driving power turbine blades, vanes, disks, and related cooled structures; cooled augmenters; and cooled nozzles) specially designed for gas turbine engines controlled in this category;

* * * * *

Category XX—Submersible Vessels and Related Articles

(a)* * *

(7) Equipped with any mission systems controlled under this subchapter;

Note 1 to paragraph (a)(7): “Mission system” is defined as a “system” (see § 120.40(h) of this subchapter) that are defense articles that perform specific military functions such as by providing military communication, electronic warfare, target designation, surveillance, target detection, or sensor capabilities.

(8) Developmental vessels funded by the Department of Defense via contract or other funding authorization;

Note 1 to paragraph (a)(8): This paragraph (a)(8) does not control vessels in production, determined to be subject to the EAR via a commodity jurisdiction determination, or identified in the relevant Department of Defense contract or other funding authorization as being developed for both civil and military applications.

Note 2 to paragraph (a)(8): Note 1 to this paragraph (a)(8) does not apply to defense articles enumerated on the U.S. Munitions List, whether in production or development.

Note 3 to paragraph (a)(8): This paragraph (a)(8) is applicable to those contracts and funding authorizations that are dated July 8, 2014, or later.

(9) Uncrewed, untethered vessels that have an anti-recovery (e.g., scuttle or self-destruct) feature; or

(10) Uncrewed, untethered vessels with a gross weight rating exceeding three-thousand pounds (3,000 lb), that are designed to operate without human interaction for longer than 24 hours or for more than seventy nautical miles (70 nmi).

* (b) * * *

(2) Quick-reversing, liquid-cooled electric motors that are totally enclosed, have a power output greater than 0.75 MW (1,000 hp), and are specially designed for submarines.

* * * * *

Category XXI—Articles, Technical Data, and Defense Services Not Otherwise Enumerated

* (a) Any article not enumerated on the U.S. Munitions List may be included in this category until such time as the appropriate U.S. Munitions List category is amended to describe the article.

* * * * *

Note 1 to Category XXI: The decision to designate an article in this category, whether to designate a catch-all control for that article, the Significant Military Equipment designation of that article, and any exclusion of that article from eligibility for specific licensing exemptions, shall be made by the Director, Office of Defense Trade Controls Policy.

PART 126—GENERAL POLICIES AND PROVISIONS

4. The authority citation for part 126 continues to read as follows:

Authority: 22 U.S.C. 287c, 2651a, 2752, 2753, 2776, 2778, 2779, 2779a, 2780, 2791, 2797, 10423; sec. 1225, Pub. L. 108-375, 118 Stat. 2091; sec. 7045, Pub. L. 112-74, 125 Stat. 1232; sec. 1250A, Pub. L 116-92, 133 Stat. 1665; sec. 205, Pub. L. 116-94, 133 Stat. 3052; and E.O. 13637, 78 FR 16129, 3 CFR, 2013 Comp., p. 223.

5. Add § 126.9 to read as follows:

§ 126.9 Exemptions for certain activities involving defense articles.

(a)-(t) [Reserved]

(u) Exemption for certain large Unmanned Underwater Vehicle (UUV) activities—

(1) Activities exempted. No license or other approval is required for the following activities, subject to the restrictions in paragraph (u)(2) of this section:

(i) The temporary export, reexport, or temporary import of vessels described in USML Category XX(a)(10);

(ii) The furnishing of assistance to a foreign person in the maintenance, repair, operation, or use of a defense article described in USML Category XX(a)(10); or

(iii) Brokering activities to facilitate:

(A) The temporary export, reexport, or permanent import of vessels described in USML Category XX(a)(10); or

(B) The furnishing of assistance to a foreign person in the maintenance, repair, operation, or use of a defense article described in USML Category XX(a)(10).

(2) Restrictions. The exemption set forth in this paragraph (u) is subject to all of the following restrictions:

(i) The vessel must not be described in any USML paragraph other than Category XX(a)(10);

(ii) The vessel must not have a gross weight rating (as defined in § 121.0 of this subchapter) exceeding eight thousand pounds (8,000 lb);

(iii) The purpose of the activity must be limited to one or more of the following:

(A) Scientific research or natural resource exploration;

(B) Commercial or civil infrastructure maintenance, installation, or repair; or

(C) Search and rescue operations; and

(iv) The activity must not transfer registration, control, or ownership of the vessel to a foreign person.

Brent T. Christensen,
Senior Official Performing the Duties of the Under Secretary for Arms Control and International Security, Department of State.

[FR Doc. 2025-16382 Filed 8-26-25; 8:45 am]

BILLING CODE 4710-25-P